ENVIRONMENTAL PROTECTION AGENCY

[FRL OP-OFA-009]

Environmental Impact Statements; Notice of Availability

Responsible Agency: Office of Federal Activities, General Information 202-564-5632 or https://www.epa.gov/nepa.

Weekly receipt of Environmental Impact Statements (EIS)

Filed March 14, 2022 10 a.m. EST Through March 21, 2022 10 a.m. EST

Pursuant to 40 CFR 1506.9

Notice

Section 309(a) of the Clean Air Act requires that EPA make public its comments on EISs issued by other Federal agencies. EPA's comment letters on EISs are available at: https://cdxnodengn.epa.gov/cdx-enepa-public/action/eis/search.

EIS No. 20220036, Final, FERC, WY, Clear Creek Expansion Project, Review Period Ends: 04/25/2022, Contact: Office of External Affairs 866-208-3372

EIS No. 20220037, Final, USN, MD, Testing and Training Activities in the Patuxent River Complex, Review Period Ends: 04/25/2022, Contact: Crystal Ridgell 301-757-5282

EIS No. 20220038, Final, FERC, WI, Wisconsin Access Project, Review Period Ends: 04/25/2022, Contact: Office of External Affairs 866-208-3372

EIS No. 20220039, Final Supplement, AFRH, DC, Armed Forces Retirement Home Master Plan Update, Review Period Ends: 04/25/2022, Contact: Justin Seffens 202-541-7548

Dated: March 21, 2022.
Cindy S. Barger,
Director, NEPA Compliance Division, Office of Federal Activities.

[FR Doc. 2022-06302 Filed 3-24-22; 8:45 am]

BILLING CODE 6560-50-P